DEPARTMENT OF ENERGY

Federal Energy Regulatory Commission

[Docket No. PF09-10-000]

Northwest Pipeline GP; Notice of Intent To Prepare an Environmental Impact Statement and Land and Resource Management Plan Amendment for the Planned Blue Bridge Pipeline Project and Request for Comments On Environmental Issues

July 28, 2009.

The staff of the Federal Energy Regulatory Commission (FERC or Commission) will prepare an environmental impact statement (EIS) that will discuss the environmental impacts of the planned Blue Bridge Pipeline Project involving construction and operation of facilities by Northwest Pipeline GP (Northwest) in Benton, Klickitat, Skamania, and Clark Counties, Washington. This EIS will be used by the Commission in its decision-making process to determine whether the project is in the public convenience and necessity.

This notice announces the opening of the scoping process that will be used to gather input from the public and interested agencies on the project. Your input will help the Commission staff and cooperating agencies determine which issues need to be evaluated in the EIS. Please note that the scoping period for this project will close on August 30, 2009.

Comments may be submitted in writing or verbally. Details on how to submit written comments are provided in the “Public Participation” section of this notice. In lieu of or in addition to sending written comments, you are invited to attend the two public scoping meetings to verbally comment on the project. The dates and locations of the meetings are listed below and will be posted on the Commission's calendar at www.ferc.gov/EventCalendar/EventsList.aspx. All meetings are scheduled to begin at 7 p.m. Pacific Daylight Time.

August 11, 2009—Goldendale, WA

Goldendale Grange #49

228 E. Darland Street

Goldendale, WA 98620

August 12, 2009—Stevenson, WA

Skamania Lodge

1131 SW Skamania Lodge Way

Stevenson, WA 98648

This notice is being sent to affected landowners; federal, state, and local government representatives and agencies; environmental and public interest groups; Native American tribes; other interested parties in this proceeding; and local libraries and newspapers.

The FERC is the lead federal agency for the preparation of the EIS. The U.S. Bureau of Land Management (BLM) is participating as a cooperating agency in the preparation of the EIS because the project would cross federally-administered lands in Washington. The U.S. Forest Service (USFS) is participating as a cooperating agency because the project would cross the Gifford Pinchot National Forest, the Columbia River Gorge National Scenic Area, and the Pacific Crest Trail in Washington. The U.S. Army Corps of Engineers (COE) is also participating as a cooperating agency.

The BLM has authority under the Mineral Leasing Act of 1920 (30 U.S.C. 185) for granting a right-of-way over all federal lands involved in the planned project. As a cooperating agency, the BLM intends to adopt the EIS per Title 40 of the Code of Federal Regulations, Part 1506.3, to meet its NEPA responsibilities for Northwest's application for a Right-of-Way Grant and Temporary Use Permit for the crossing of federally administered lands, including BLM lands, the Gifford Pinchot National Forest, the Columbia River Gorge National Scenic Area, the Pacific Crest Trail, and the Umatilla National Wildlife Refuge. The Umatilla National Wildlife Refuge is managed by the U.S. Fish and Wildlife Service (FWS). The concurrence or non-concurrence of the USFS and FWS would be considered in the BLM's decision, as well as impacts on resources and programs and the project's conformance with land use plans.

As planned, the Blue Bridge Pipeline project does not follow a designated utility corridor through the Gifford Pinchot National Forest. If Blue Bridge's planned route were authorized, the Gifford Pinchot National Forest, Forest Plan would need to be amended. The USFS will use the EIS to consider amending the Forest Plan to allow pipeline construction outside of designated utility corridors.

If you are a landowner receiving this notice, you may be contacted by a pipeline company representative about the acquisition of an easement to construct, operate, and maintain the planned facilities. The company would seek to negotiate a mutually acceptable agreement. However, if the project is approved by the Commission, that approval conveys with it the right of eminent domain. Therefore, if easement negotiations fail to produce an agreement, the pipeline company could initiate condemnation proceedings in accordance with state law.

A fact sheet prepared by the FERC entitled “An Interstate Natural Gas Facility On My Land? What Do I Need To Know?” is available for viewing on the FERC Web site (www.ferc.gov). This fact sheet addresses a number of typically asked questions, including the use of eminent domain and how to participate in the Commission's proceedings.

Summary of the Planned Project

Northwest plans to construct and operate a new pipeline to transport natural gas from the Stanfield market hub located near Stanfield, Oregon, to major markets in the Pacific Northwest along the Interstate 5 corridor, including the Olympia and Seattle, Washington, areas. All of the planned project facilities would be located in Washington. The planned Blue Bridge project would transport up to 239,000 dekatherms per day of natural gas. According to Northwest, its project would allow its customers to meet forecasted growing demand for natural gas, diversify supply alternatives, and increase reliability.

The planned Blue Bridge Project would consist of the following facilities:

• Approximately 119.2 miles of 30-inch diameter pipeline loop along the Columbia River Gorge in Benton, Klickitat, and Skamania Counties, Washington; ¹ and

¹ A pipeline loop is constructed parallel to an existing pipeline to increase capacity.

• Install 15,015 horsepower of additional compression at two existing compressor stations near Plymouth (Benton County) and Washougal (Clark County).

The general location of the project facilities is shown in appendix 1.²

² The appendices referenced in this notice are not being printed in the Federal Register. Copies of appendices are available on the Commission's Web site at the “eLibrary” link or from the Commission's Public Reference Room, 888 First Street, NE., Washington, DC 20426, or call (202) 502-8371. For instructions on connecting to eLibrary, refer to the last page of this notice. Copies of the appendices were sent to all those receiving this notice in the mail.

Note that the planned location of the project has been modified since the original Northwest filing and project description dated June 1, 2009. On July 27, 2009, Northwest filed supplemental information indicating that about 34 miles of planned pipeline route had been removed from the project, including portions of the planned route in Klickitat, Skamania, and Clark Counties, Washington. Additionally, Northwest indicated that all previously planned project activities in Lewis County, Washington, have been eliminated.

Land Requirements for Construction

Construction of the planned facilities would affect about 1,733 acres of land for aboveground facilities, temporary extra work areas, uncleared storage areas, and the pipeline based on a planned construction right-of-way that typically would be 75-foot-wide. Northwest would retain approximately 949 acres permanently during operations as permanent right-of-way. The remaining acreage that was used for construction, but not needed as permanent right-of-way, would be restored and/or allowed to revert to former uses. About 74 percent of the planned pipeline route would parallel existing pipeline, utility, or road rights-of-way.

The EIS Process

The National Environmental Policy Act (NEPA) requires the Commission to take into account the environmental impacts that could result from an action whenever it considers the issuance of a Certificate of Public Convenience and Necessity. NEPA also requires us to discover and address concerns the public may have about proposals. This process is referred to as “scoping”. The main goal of the scoping process is to focus the analysis in the EIS on the important environmental issues. By this notice, the Commission requests public comments on the scope of the issues to address in the EIS. All comments received will be considered during the preparation of the EIS.

In the EIS the FERC staff will discuss impacts that could occur as a result of the construction and operation of the planned project under these general headings:

• Geology and soils;

• Land use;

• Water resources, fisheries, and wetlands;

• Cultural resources;

• Vegetation and wildlife;

• Air quality and noise;

• Endangered and threatened species; and

• Public safety.

The FERC staff will also evaluate reasonable alternatives to the planned project or portions of the project, and make recommendations on how to lessen or avoid impacts on the various resource areas.

Although no formal application has been filed, the FERC staff has already initiated our NEPA review under the Commission's Pre-filing Process. The purpose of the Pre-filing Process is to encourage early involvement of interested stakeholders and to identify and resolve issues before an application is filed with the FERC. As part of our pre-filing review, the FERC staff has begun to contact some federal and state agencies to discuss their involvement in the scoping process and the preparation of the EIS.

Our independent analysis of the issues will be presented in the EIS. The draft EIS will be mailed to those on our environmental mailing list (see discussion of how to remain on our mailing list on page 7). A 90-day comment period will be allotted for review of the draft EIS. The FERC staff will consider all timely comments and revise the document, as necessary, before issuing a final EIS. To ensure your comments are considered, please carefully follow the instructions in the public participation section below.

With this notice, the FERC is formally asking agencies with jurisdiction and/or special expertise with respect to environmental issues to formally cooperate with us in the preparation of the EIS. These agencies may choose to participate once they have evaluated the proposal relative to their responsibilities. Agencies that would like to request cooperating agency status should follow the instructions for filing comments provided under the Public Participation section of this notice. Currently, the BLM, USFS, and the COE have expressed their intention to participate as a cooperating agency in the preparation of the EIS to satisfy their NEPA responsibilities related to this project.

Currently Identified Environmental Issues

The FERC staff has already identified several issues that we think deserve attention based on a preliminary review of the planned facilities and the environmental information provided by Northwest. This preliminary list of issues may be changed based on your comments and our analysis.

• Geohazards, including areas with high landslide potential;

• Sensitive waterbody crossings and wetlands;

• Fisheries and wildlife;

• Endangered and rare species, including the northern spotted owl and several salmonid species;

• Crossing of the Columbia River Gorge National Scenic Area and associated viewsheds;

• Crossing of the Gifford Pinchot National Forest;

• Crossing of the Umatilla National Wildlife Refuge;

• Crossing of the Pacific Crest Trail;

• Impacts to forested areas, including late successional reserve/old growth areas;

• Cultural resources, including areas of interest to Native American Tribes;

• Pipeline safety and reliability; and

• Residential areas.

Public Participation

You can make a difference by providing us with your specific comments or concerns about the project. Your comments should focus on the potential environmental effects, reasonable alternatives, and measures to avoid or lessen environmental impacts. The more specific your comments, the more useful they will be. To ensure that your comments are timely and properly recorded, please send in your comments so that they will be received in Washington, DC on or before August 30, 2009.

For your convenience, there are three methods in which you can use to submit your comments to the Commission. In all instances, please reference the project docket number [PF09-10-000] with your submission. The Commission encourages electronic filing of comments and has expert eFiling staff available to assist you at 202-502-8258 or efiling@ferc.gov.

(1) You may file your comments electronically by using the Quick Comment feature, which is located on the Commission's internet Web site at http://www.ferc.gov under the link to Documents and Filings. A Quick Comment is an easy method for interested persons to submit text-only comments on a project;

(2) You may file your comments electronically by using the eFiling feature, which is located on the Commission's Internet Web site at http://www.ferc.gov under the link to Documents and Filings. eFiling involves preparing your submission in the same manner as you would if filing on paper, and then saving the file on your computer's hard drive. You will attach that file to your submission. New eFiling users must first create an account by clicking on “Sign up” or “eRegister.” You will be asked to select the type of filing you are making. A comment on a particular project is considered a “Comment on a Filing”; or

(3) You may file your comments with the Commission via mail by sending an original and two copies of your letter to: Kimberly D. Bose, Secretary, Federal Energy Regulatory Commission, 888 First Street, NE., Room 1A, Washington, DC 20426.

Label one copy of the comments for the attention of Gas Branch 3, PJ-11.3.

Environmental Mailing List

An effort is being made to send this notice to all individuals, organizations, and government entities interested in and/or potentially affected by the planned project. This includes all landowners who are potential right-of-way grantors, whose property may be used temporarily for project purposes, or who own homes within certain distances of aboveground facilities (as defined in the Commission's regulations).

If you do not want to send comments at this time but still want to remain on our mailing list, please return the Information Request (appendix 2). If you do not return the Information Request, you will be taken off the mailing list.

Becoming an Intervenor

Once Northwest files its application with the Commission, you may want to become an “intervenor”, which is an official party to the proceeding. Intervenors play a more formal role in the process and are able to file briefs, appear at hearings, and be heard by the courts if they choose to appeal the Commission's final ruling. An intervenor formally participates in a Commission proceeding by filing a request to intervene. Instructions for becoming an intervenor are included in the User's Guide under the “e-filing” link on the Commission's Web site. Please note that you may not request intervenor status at this time. You must wait until a formal application for the project is filed with the Commission.

Additional Information

Additional information about the project is available from the Commission's Office of External Affairs, at 1-866-208-FERC or on the FERC Web site (www.ferc.gov) using the eLibrary link. Click on the eLibrary link, click on “General Search” and enter the docket number, excluding the last three digits, in the Docket Number field. Be sure you have selected an appropriate date range. For assistance, please contact FERC Online Support at FercOnlineSupport@ferc.gov or toll free at 1-866-208-3676, or for TTY, contact (202) 502-8659. The eLibrary link also provides access to the texts of formal documents issued by the Commission, such as orders, notices, and rulemakings.

In addition, the Commission now offers a free service called eSubscription which allows you to keep track of all formal issuances and submittals in specific dockets. This can reduce the amount of time you spend researching proceedings by automatically providing you with notification of these filings, document summaries and direct links to the documents. Go to www.ferc.gov/esubscribenow.htm.

Finally, public meetings or site visits will be posted on the Commission's calendar located at http://www.ferc.gov/EventCalendar/EventsList.aspx along with other related information.

Kimberly D. Bose,
Secretary.

[FR Doc. E9-18551 Filed 8-3-09; 8:45 am]

BILLING CODE 6717-01-P